DEPARTMENT OF COMMERCE

National Oceanic and Atmospheric Administration

[RTID 0648-XE696]

Marine Mammals; File No. 28912

AGENCY: National Marine Fisheries Service (NMFS), National Oceanic and Atmospheric Administration (NOAA), Commerce.

ACTION: Notice; receipt of application.

SUMMARY: Notice is hereby given that Daniel Costa, Ph.D., University of California at Santa Cruz, 130 McAlister Way, Santa Cruz, CA 95060, has applied in due form for a permit to conduct research on California sea lions (Zalophus californianus).

DATES: Written comments must be received on or before April 17, 2025.

ADDRESSES: The application and related documents are available for review by selecting “Records Open for Public Comment” from the “Features” box on the Applications and Permits for Protected Species home page, https://apps.nmfs.noaa.gov, and then selecting File No. 28912 from the list of available applications. These documents are also available upon written request via email to NMFS.Pr1Comments@noaa.gov.

Written comments on this application should be submitted via email to NMFS.Pr1Comments@noaa.gov. Please include File No. 28912 in the subject line of the email comment.

Those individuals requesting a public hearing should submit a written request via email to NMFS.Pr1Comments@noaa.gov. The request should set forth the specific reasons why a hearing on this application would be appropriate.

FOR FURTHER INFORMATION CONTACT: Sara Young or Shasta McClenahan, Ph.D., (301) 427-8401.

SUPPLEMENTARY INFORMATION: The subject permit is requested under the authority of the Marine Mammal Protection Act of 1972, as amended (MMPA; 16 U.S.C. 1361 et seq.), the regulations governing the taking and importing of marine mammals (50 CFR part 216), and the Fur Seal Act of 1966, as amended (16 U.S.C. 1151 et seq.).

The applicant proposes to conduct research on California sea lions throughout their range to investigate their foraging ecology, habitat use, and health. Proposed activities include: unmanned aircraft system, vessel and ground surveys for counts, photography, observations, and acoustic playbacks; captures, including sedation, anesthesia, restraint, morphometrics, marking, external instrument attachment, biological sampling, and ultrasound; and collection, import, export, and receipt of pinniped parts. The applicant requests up to three unintentional mortalities annually, not to exceed 20 over the duration of the permit. Ten non-target species of non-ESA listed cetaceans and four non-target non-ESA listed species of pinnipeds may be disturbed during these studies. See the application for complete numbers of animals requested by species and procedure. The requested duration of this permit is 10 years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: March 13, 2025.
Amy Sloan,
Acting Chief, Permits and Conservation Division, Office of Protected Resources, National Marine Fisheries Service.

[FR Doc. 2025-04434 Filed 3-17-25; 8:45 am]

BILLING CODE 3510-22-P